DEPARTMENT OF AGRICULTURE

Forest Service

Dixie National Forest, Utah, Long Deer Vegetation Management Project

AGENCY: Forest Service, USDA.

ACTION: Notice of intent to prepare a Supplemental Environment Impact Statement.

SUMMARY: The USDA Forest Service will prepare a Supplemental Environmental Impact Statement (SEIS) to the South Spruce Ecosystem Rehabilitation Project EIS (1999) to implement vegetation management treatments in the spruce/fir forests within the Cedar City Ranger District, Dixie National Forest, Utah. The agency gives notice of the full environmental analysis and decision-making process that will occur on the proposal so that interested and affected people may become aware of how they can participate in the process and contribute to the final decision.

DATES: Comments concerning the scope of the analysis must be received by thirty days after publication of this Notice of Intent in the Federal Register. The draft supplemental environmental impact statement is expected in September 2002. The final supplemental environmental impact statement is expected in December 2002.

ADDRESSES: Send written comments to: Long Deer Interdisciplinary Team Leader, Cedar City Ranger District, Dixie National Forest, 1789 Wedgewood, Cedar City, Utah 84720.

FOR FURTHER INFORMATION CONTACT: Long Deer Interdisciplinary Team Leader, Cedar City Ranger District, Dixie National Forest, 1789 Wedgewood, Cedar City, Utah 84720.

SUPPLEMENTARY INFORMATION: The proposed project is located in a 10,436 acre analysis area in portions of the Tommy, Duck, and Upper Midway Creek watersheds. Approximately 7,514 acres of the project area are forested and 2,922 acres are non-forested. The proposed commercial conifer treatment areas currently are infested with spruce beetle (Dendroctonus rufipennis).

The purpose of the project is to harvest approximately 2,443 acres of dead, dying, and high risk Engelmann spruce trees to recover wood products that would otherwise be lost, while still meeting desired resources objectives for the project area. Minor amounts of subalpine fir trees (less than 15% of the total removed) would also be removed to encourage open growth, spruce or subalpine fir regeneration, improve residual stand vigor, or that will likely be damaged or killed during the removal of the spruce trees.

Rehabilitation of areas heavily impacted by bark beetle mortality through the completion of natural and artificial regeneration activities would occur as needed. An estimated 1,000 acres would be planted with spruce seedlings. Reforestation is essential to providing for the most rapid progression toward the desired future condition for forest cover in the project area.

Aspen regeneration of approximately 470 acres is also included in this proposal. These areas are included with the 2,443 acres of salvage/improvement treatments. Treatments would include tree removal followed by burning or mechanical treatment (commercial harvest) with or without burning.

Within the areas proposed for treatments, approximately 102 acres would be machine piled and burned and 619 acres would be broadcast burned to reduce fuels to the desired levels and to help stimulate the regeneration of aspen.

Travel management is proposed for portions of the project area. The purpose of this activity is to restore and rehabilitate ecological values in areas where excessive numbers of open roads exist; primarily to offset the loss of big game hiding cover from harvest activities. Moving these portions of the project area toward or below the Land Resource Management Plan guideline of two miles of open road per square mile will reduce the adverse environmental impacts associated with excessive numbers of open roads and loss of cover. A reduction in open road density will also reduce long-term maintenance costs while promoting safe, efficient public travel on the open road system. Road closures would be accomplished with earth and rock barriers, fences, or gates. The open road density for the analysis area would be reduced from the current 2.39 miles per square mile to 1.70 miles per square mile.

Vegetation management treatments involving commercial harvest, aspen regeneration, and travel management would occur on National Forest system lands located within portions of section 19, 30-32 of Township (T) 37 South (S), Range (R) 8 West (W); sections 13, 14, 23-26, 35, and 36 of T37S, R8½W; sections 11-14, 23-26, 35 and 36 of T37S, R9W; sections 1 and 2 of T38S, R9W; and sections 4-6, and 8-10 of T38S, R8W, Salt Lake City Meridian, Iron and Kane Counties, UT.

The transportation system required to access commercial harvest areas is in place. All skid trails would be obliterated and may be seeded upon completion of the project.

The proposed actions would implement management direction, contribute to meeting the goals and objectives identified in the DNF-LRMP, and move the project area toward the desired condition. This project SEIS would be tiered to the Dixie National Forest LRMP EIS (1986), which provides goals, objectives, standards and guidelines for the various activities and land allocations on the Forest.

The Forest Service would analyze and document direct, indirect, and cumulative environmental effects for a range of alternatives. Each alternative would include mitigation measures and monitoring requirements. One alternative to the proposed action has been identified at this time. Alternative A was developed to address an issue identified during scoping. This alternative would close less roads in order to maintain access to dispersed campsites and popular off highway vehicle routes. The open road density would be reduced from the existing 2.39 miles per square mile to 1.80 miles per square mile under this alternative. All other actions would be identical to the Proposed Action. No other issue has been identified beyond those initially identified and analyzed under separate alternatives in the South Spruce Ecosystem Rehabilitation Project EIS.

Responsible Official: Randy Swick, Acting Forest Supervisor, Dixie National Forest, is the responsible official. He can be reached by mail at 1789 Wedgewood, Cedar City, Utah, 84720.

Comments Requested: Comments will continue to be received and considered throughout the analysis process. Comments received in response to this notice and through scoping, including names and addresses of those who comment, will be considered part of the public record of this proposed action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

Early Notice of Importance of Public Participation in Subsequent Environmental Review: A draft environmental impact statement will be prepared for comment. The draft SEIS is expected to be filed with the EPA (Environmental Protection Agency) and to be available for public review. At that time the EPA will publish a notice of availability of the draft SEIS in the Federal Register. The comment period for the draft environmental impact statement will be forty-five days from the date the EPA's notice of availability appears in the Federal Register. Comments on the draft SEIS should be as specific as possible and may address the adequacy of the statement or the merits of the alternatives discussed (Reviewers may wish to refer to the Council on Environmental Quality Regulations for implementing the procedural provisions of the National Environmental Policy Act at 40 CFR 1503.3 in addressing these points).

The Forest Service believes, at this early stage, it is important to give reviewers notice of several court rulings related to public participation in the environmental review process. First, reviewers of draft environmental impact statements must structure their participation in the environmental review of the proposal so that it is meaningful and alerts an agency to the reviewers' position and contentions. Vermont Yankee Nuclear Power Corp. v. NRDC, 435 U.S. 519, 553 (1978). Also, environmental objections that could have been raised at the draft environmental impact statement stage but that are not raised until after completion of the final environmental impact statement may be waived or dismissed by the courts. City of Angoon v. Hodel, (9th Circuit, 1986) and Wisconsin Heritages, Inc. v. Harris, 490 F. Supp. 1334, 1338 (E.D. Wis. 1980). Because of these court rulings, it is very important that those interested in this proposed action participate by the close of the 45-day comment period so that substantive comments and objections are made available to the Forest Service at the time it can meaningfully consider them and respond to them in the final environmental impact statement.

To assist the Forest Service in identifying and considering issues and concerns about the proposed action, comments on the draft supplemental environmental impact statement should be as specific as possible. It is also helpful if comments refer to specific pages or chapters of the draft statement. Comments may also address the adequacy of the statement or the merits of the alternatives formulated and discussed in the statement. Reviewers may wish to refer to the Council on Environmental Quality Regulations for implementing the procedural provisions of the National Environmental Policy Act at 40 CFR 1503.3 in addressing these points.

In the final SEIS, the Forest Service is required to respond to substantive comments and responses received during the comment period that pertain to the environmental consequences discussed in the draft SEIS and applicable laws, regulations, and policies considered in making a decision regarding the proposal. The Responsible Official will document the decision and rationale for the decision in a Record of Decision. The final SEIS is scheduled for completion in December, 2002. The decision will be subject to review under Forest Service Appeal Regulations.

Dated: August 9, 2002.
Randall G. Swick,
Acting Forest Supervisor, Dixie National Forest.

[FR Doc. 02-21215 Filed 8-20-02; 8:45 am]

BILLING CODE 3410-11-M